FEDERAL ELECTION COMMISSION

Sunshine Act Meetings

AGENCY: Federal Election Commission.

DATE & TIME: Thursday, March 19, 2015 at 10 a.m.

PLACE: 999 E Street NW., Washington, DC (Ninth Floor)

STATUS: This Meeting Will Be Open To The Public.

ITEMS TO BE DISCUSSED: Correction and Approval of Minutes for March 10, 2015

Draft Advisory Opinion 2014-20: Make Your Laws PAC, Inc.

Rulemaking Petition REG 2014-09: Federal Contractors, Draft Notice of Availability

Rulemaking Petition REG 2015-01: Administrative Fines and Forms, Draft Notice of Availability

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2015-06147 Filed 3-13-15; 11:15 am]

BILLING CODE 6715-01-P